DEPARTMENT OF TRANSPORTATION

Federal Motor Carrier Safety Administration

Request for Applications for the Federal Motor Carrier Safety Administration Medical Review Board

AGENCY: Federal Motor Carrier Safety Administration (FMCSA), DOT.

ACTION: Request for applications for the Medical Review Board.

SUMMARY: FMCSA solicits applications from interested physicians to serve on the Agency's Medical Review Board (MRB). The MRB, authorized by the Safe, Accountable, Flexible, Efficient Transportation Equity Act: A Legacy for Users (SAFETEA-LU), provides scientific advice to the Secretary of Transportation (the Secretary) and the FMCSA Administrator on medical issues relating to the physical qualification standards for commercial motor vehicle (CMV) drivers. In 2006, the Secretary appointed five physicians for 2-year terms to serve on the MRB. In 2008, the Secretary reappointed the physicians to the MRB, with the chairperson currently serving a 2-year term, and the other four members serving staggered 1-year terms. In 2009, the Secretary appointed two new members to a 2-year term, and reappointed two of the current members to a 1-year term to ensure the MRB continued to operate with five active members. The term of the chairman and two members will expire in 2010. Therefore, in 2010, the Secretary will appoint three new MRB members to fill the vacancies created when the three current members' terms expire. In addition, the Secretary will appoint alternates to serve if one or more of the appointed MRB members is unable to complete his/her term. The appointment of alternates ensures that the MRB will operate continuously with five active members.

DATES: Applications must be received by August 17, 2009. FMCSA will periodically call for applications as deemed necessary.

FOR FURTHER INFORMATION CONTACT: Dr. Mary D. Gunnels, Director, Medical Programs, 202-366-4001, FMCSA, U.S. Department of Transportation, 1200 New Jersey Avenue, SE., Washington, DC 20590. Office hours are from 8 a.m. to 5 p.m., E.T., Monday through Friday, except Federal holidays.

SUPPLEMENTARY INFORMATION:

I. Background

FMCSA has current statutory authority under 49 U.S.C. 31502 and 31136 to determine the physical qualifications of interstate CMV drivers. The physical qualifications regulations for commercial motor vehicle (CMV) drivers in interstate commerce are found in 49 CFR 391.41. Section 391.43 contains instructions to medical examiners for performing physical examinations of CMV drivers. FMCSA medical standards and guidelines are critical medical program components in accomplishing FMCSA's mission to reduce crashes, injuries, and fatalities involving large trucks and buses.

In 2005, Congress passed the Safe, Accountable, Flexible, Efficient Transportation Equity Act; A Legacy for Users (SAFETEA-LU) (Pub. L. 109-59). Section 4116 (a) of SAFETEA-LU (codified at 49 U.S.C. 31149) required FMCSA to establish the MRB to provide scientific advice on matters related to CMV driver health and safety. The Charter for the MRB was originally approved and filed with the General Services Administration on September 20, 2005 [FR 70 57642], and renewed on November 2, 2007.

The MRB promotes CMV safety by providing science-based medical expertise on the medical qualification of CMV drivers, reviewing and revising medical standards, and interpreting medical research. These activities address the appropriateness and viability of the medical standards in the Federal Motor Carrier Safety Regulations, the framework that relates driver health to safe CMV operation. The MRB assesses and provides recommendations to FMCSA about regulations that may need to be changed or updated. FMCSA's MRB provides information, advice, and recommendations to the Secretary of Transportation and the FMCSA Administrator on the development and implementation of science-based physical qualification standards applicable to interstate CMV drivers, and implementation of a national registry of medical examiners. The MRB does not hold regulatory development responsibilities, manage programs, or make decisions affecting such programs. The MRB provides a forum for the development, consideration, and communication of information from a knowledgeable, scientific perspective. The MRB began operations in February 2006, with formal deliberations beginning in August 2006. The MRB meets 3-4 times each year and has issued many recommendations on cardiovascular diseases, seizure disorders, musculoskeletal diseases, and other topics pertinent to the certified driver medical examination.

II. Request for Applications

FMCSA seeks physicians from many different medical specialties to develop science-based CMV physical qualification standards, medical advisory criteria and safety policies. As members of the Agency's MRB, physicians will provide expert guidance on medical guidelines and standards. FMCSA is committed to appointing physicians with diverse professional backgrounds, and taking into account gender, ethnicity, demographic and socioeconomic factors. To be eligible for appointment, physicians must: (a) Be a U.S. citizen; (b) not be a Federal government employee; (c) have a U.S. medical license (as a Medical Doctor or Doctor of Osteopathy) and is in good standing; with a State medical licensing authority; and (d) be able to attend three to four face-to-face meetings a year, three to five 1 hour teleconferences, and spend approximately 5 hours per month providing additional consultation.

Interested physicians should have a commitment to transportation safety and health, an understanding of evidence-based medicine and research methods, knowledge of transportation medical issues, history of excellence in original medical research demonstrated through publications in peer-reviewed journals, experience on panels that develop medical standards, and a record of leadership activities in transportation safety and medical professional organizations.

MRB members are special government employees under the Federal Advisory Committee Act of 1972, Public Law 92-463. While attending meetings or conducting business of the Committee, expenses for travel and subsistence or per diem allowances will be paid by FMCSA.

Applications should be submitted online at http://www.mrb.fmcsa.dot.gov. For additional information, please contact Jennifer Musick at 703-998-0189, extension 237, or via e-mail at contactmrb@dot.gov. FMCSA will accept applications through August 17, 2009, and will periodically call for applications as the MRB work continues.

Issued on: June 29, 2009.
Larry W. Minor,
Associate Administrator for Policy and Program Development.

[FR Doc. E9-16888 Filed 7-15-09; 8:45 am]

BILLING CODE 4910-EX-P